DEPARTMENT OF TRANSPORTATION

Federal Transit Administration

FY 2022 Competitive Funding Opportunity: Pilot Program for Transit-Oriented Development Planning

AGENCY: Federal Transit Administration (FTA), Department of Transportation (DOT).

ACTION: Notice of Funding Opportunity (NOFO).

SUMMARY: The Federal Transit Administration (FTA) announces the opportunity to apply for $13,160,021 in Fiscal Year (FY) 2021 and FY 2022 funding under the Pilot Program for Transit-Oriented Development Planning (TOD Pilot Program). As required by Federal public transportation law and subject to funding availability, funds will be awarded competitively to support comprehensive planning or site-specific planning associated with new fixed guideway and core capacity improvement projects. FTA may award additional funding that is made available to the TOD Pilot Program prior to the announcement of project selections.

DATES: Complete proposals must be submitted electronically through the GRANTS.GOV “APPLY” function by 11:59 p.m. July 25, 2022. Any applicant intending to apply should initiate the process by registering on the Grants.Gov website immediately to ensure completion of registration before the submission deadline. Instructions for applying can be found on FTA's website at https://www.transit.dot.gov/TODPilot and in the “FIND” module of GRANTS.GOV. The GRANTS.GOV funding opportunity ID is FTA-2022-004-TPE-TODP. Mail and fax submissions will not be accepted.

FOR FURTHER INFORMATION CONTACT: April McLean-McCoy, FTA Office of Planning and Environment, (202) 366-7429, or April.McLeanMcCoy@dot.gov. A TDD is available at 1-800-877-8339 (TDD/FIRS).

SUPPLEMENTARY INFORMATION:

Table of Contents

A. Program Description

B. Federal Award Information

C. Eligibility Information

D. Application and Submission Information

E. Application Review Information

F. Federal Award Administration Information

G. Federal Awarding Agency Contacts

H. Other Information

A. Program Description

Section 20005(b) of the Moving Ahead for Progress in the 21st Century Act (MAP-21; Pub. L. 112-141, July 6, 2012), with funding authorized by 49 U.S.C. 5338(a)(2)(B), and section 30009 of the Bipartisan Infrastructure Law, enacted as the Infrastructure Investment and Jobs Act (Pub. L. 117-58), authorizes FTA to award grants under the TOD Pilot Program. This funding opportunity is occurring under Federal Assistance Listing number 20.500.

This program supports FTA's strategic goals and objectives through the timely and efficient investment in public transportation. The TOD Pilot Program grants are competitively awarded to local communities to integrate land use and transportation planning with a new fixed guideway or core capacity improvement transit capital project as defined in Federal public transportation law (49 U.S.C. 5309(a)). (See Section C of this NOFO for more information about eligibility.) The TOD Pilot Program supports the President's efforts to mobilize American ingenuity to build a modern infrastructure and an equitable future. In addition, through promotion of increased transportation access to environmental justice populations, equity-focused community outreach and public engagement of underserved communities and adoption of equity-focused policies, reduction of greenhouse gas emissions, and addressing the effects of climate change, the TOD Program and this NOFO advance the goals of Executive Order 13985: Advancing Racial Equity and Support for Underserved Communities Through the Federal Government; Executive Order 13900: Protecting Public Health and the Environment and Restoring Science to Tackle Climate Crisis; and Executive Order 14008: Tackling the Climate Crisis at Home and Abroad. Additionally, in support of the Federal House America Initiative led by the Department of Housing and Urban Development, DOT, through this NOFO, is reviewing opportunities to prioritize TOD planning grants in areas of high incidence rates of homelessness, in the hope of providing opportunities for localities to address homelessness holistically through their planning processes.

The TOD Pilot Program intends to fund comprehensive planning that supports economic development, increased transit ridership and value capture multimodal connectivity, accessibility, increased transit access for pedestrian and bicycle traffic, and mixed-use and mixed-income development near transit stations; delivers 40 percent of the overall benefits of the planning work to Historically Disadvantaged Communities (defined below); and addresses climate change, challenges facing environmental justice populations, and homelessness. The TOD Pilot Program also encourages the identification of infrastructure needs and engagement with the private sector.

FTA is seeking comprehensive or site-specific planning projects that cover an entire transit capital project corridor. To ensure that any proposed planning work both reflects the needs and aspirations of the local community and results in concrete, specific deliverables and outcomes, transit project sponsors must partner with entities with land use planning authority in the transit project corridor to conduct the planning work.

B. Federal Award Information

FTA intends to award all available funding in the form of grants to selected applicants responding to this NOFO. A total of $13,160,021 will be made available through this NOFO. The authorized funding level in the Bipartisan Infrastructure Law is $13,157,184 in Fiscal Year (FY) 2022 funds and $2,837 remaining from the FY 2021 appropriation. Additional funds made available prior to project selection may be allocated to eligible projects. Only proposals from eligible recipients for eligible activities will be considered for funding. Due to funding limitations, applicants that are selected for funding may receive less than the amount originally requested and are thus encouraged to identify a scaled funding request in their application.

In response to the last NOFO that closed on June 21, 2021, the TOD Pilot Program received applications for 24 eligible projects requesting a total of $16,401,500. Of the 24 eligible applications received, (20) projects were funded at a total of $11,026,500.

FTA will grant pre-award authority to incur costs for selected projects beginning on the date FY 2022 project selections are announced on FTA's website. Funds are available for obligation for four fiscal years after the fiscal year in which the competitive awards are announced. Funds are available only for projects that have not incurred costs prior to the announcement of project selections.

C. Eligibility Information

1. Eligible Applicants

Applicants to the TOD Pilot Program must be a State or States, U.S. Territory, or local governmental authorities and FTA grant recipient (i.e., existing direct or designated recipients) as of the publication date of this NOFO. An applicant must be the project sponsor of an eligible transit capital project as defined below in Section C, subsection 3, or an entity with land use planning authority in the project corridor of an eligible transit capital project. Except in cases where an applicant is both the sponsor of an eligible transit project and has land use authority in at least a portion of the transit project corridor, the applicant must partner with the relevant transit project sponsor or at least one entity in the project corridor with land use planning authority. Documentation of this partnership must be included with the application; see Section D, subsection 2 of this NOFO for further information.

Only one application per transit capital project corridor may be submitted to FTA. Multiple applications submitted for a single transit capital project corridor indicate that partnerships are not in place, and FTA may reject all of the applications. FTA will accept multiple applications for the same corridor if each application is a site-specific application, the applications are submitted by separate applicants with different land-use authorities, and a given application does not overlap with any other application that would cover the same site.

2. Cost Sharing or Matching

The maximum Federal funding share is 80 percent.

Eligible sources of non-Federal match include the following: Cash from non-Federal sources (other than revenues from providing public transportation services); revenues derived from the sale of advertising and concessions; amounts received under a service agreement with a State or local social service agency or private social service organization; revenues generated from value capture financing mechanisms; funds from an undistributed cash surplus; replacement or depreciation cash fund or reserve; or new funding. In-kind contributions are permitted. Transportation Development Credits (formerly referred to as Toll Revenue Credits) may not be used to satisfy the non-Federal match requirement.

3. Other Eligibility Criteria

i. Eligible Transit Projects

Any comprehensive or site-specific planning work proposed for funding under the TOD Pilot Program must be associated with an eligible transit capital project. To be eligible, the proposed transit capital project must be a new fixed guideway project or a core capacity improvement project, as defined by Federal public transportation law (49 U.S.C. 5302(8)).

A fixed guideway is a public transportation facility:

(A) Using and occupying a separate right-of-way for the exclusive use of public transportation;

(B) using rail;

(C) using a fixed catenary system;

(D) for a passenger ferry system; or

(E) for a bus rapid transit system.

A new fixed guideway capital project is defined in (49 U.S.C. 5309(a)) to be:

(A) A new fixed guideway project that is a minimum operable segment or extension to an existing fixed guideway system; or

(B) a fixed guideway bus rapid transit project that is a minimum operable segment or an extension to an existing bus rapid transit system.

A fixed guideway bus rapid transit project is defined in (49 U.S.C. 5309(a)) as a bus capital project:

(A) In which the majority of the project operates in a separated right-of-way dedicated for public transportation use during peak periods;

(B) that represents a substantial investment in a single route in a defined corridor or subarea; and

(C) that includes features that emulate the services provided by rail fixed guideway public transportation systems, including:

(i) Defined stations;

(ii) traffic signal priority for public transportation vehicles;

(iii) short headway bidirectional services for a substantial part of weekdays and weekend days; and

(iv) any other features the Secretary may determine are necessary to produce high-quality public transportation services that emulate the services provided by rail fixed guideway public transportation systems.

A core capacity improvement project is defined by 49 U.S.C. 5309(a) to mean a substantial corridor-based capital investment in an existing fixed guideway system that increases the capacity of the corridor by not less than 10 percent. The term does not include project elements designed to maintain a state of good repair of the existing fixed guideway system.

Comprehensive or site-specific planning work in a corridor for a transit capital project that does not meet the statutory definitions above of either a new fixed guideway project or a core capacity improvement project is not eligible under the TOD Pilot Program.

ii. Eligible Activities

As outlined in the Application Review Information section below, any comprehensive or site-specific planning funded under the TOD Pilot Program must address all six factors set forth set in Section 20005(b)(2) of MAP-21, as amended by section 30009 of the Bipartisan Infrastructure Law. Additionally, the comprehensive or site-specific planning effort must advance the metropolitan planning organization's metropolitan transportation plan. Applicants must establish performance criteria for the planning effort.

The following are examples of the types of substantial deliverables that may result from the comprehensive or site-specific planning work. Substantial deliverables are reports, plans and other materials that represent the key accomplishments of the comprehensive planning effort and that must be submitted to FTA as each is completed. Substantial deliverables may include, but are not restricted to, the following:

i. A comprehensive plan report that includes corridor development policies and station development plans comprising the corridor or the specific site, a proposed timeline, and recommended financing strategies for these plans;

ii. A strategic plan report that includes corridor specific planning strategies and program recommendations to support comprehensive planning;

iii. Revised TOD-focused zoning codes and/or resolutions;

iv. A report evaluating and recommending financial tools to encourage TOD implementation such as land banking, value capture, and development financing;

v. Policies to encourage TOD, including actions that reduce regulatory barriers that unnecessarily raise the costs of housing development or impede the development of affordable housing;

vi. Policies to encourage TOD, including actions that increase access to environmental justice populations, reduces greenhouse gas emissions, and the effects of climate change, or

vii. Local or regional resolutions to implement TOD plans and/or establish TOD funding mechanisms;

viii. Policies to prioritize TOD in areas with high incidence rates of homelessness for localities to address homelessness holistically through their planning processes;

iii. Ineligible Activities

FTA will not make awards for the following activities:

i. Transit project development activities that would be reimbursable under an FTA capital grant, such as project planning, the design and engineering of stations and other facilities, environmental analyses needed for the transit capital project, or costs associated with specific joint development activities; and

ii. Capital projects, such as land acquisition, construction, and utility relocation.

D. Application and Submission Information

1. Address To Request Application Package

Applications must be submitted electronically through GRANTS.GOV. The application is only available on Grants.gov and must be submitted electronically through grants.gov. General information for submitting applications through GRANTS.GOV can be found at https://www.transit.dot.gov/howtoapply along with specific instructions for the forms and attachments required for submission. The Standard Form (SF) 424, Application for Federal Assistance, which must be included with every application, can be downloaded from GRANTS.GOV. The supplemental form for the FY 2022 TOD Pilot Program can be downloaded from GRANTS.GOV or the FTA website at https://www.transit.dot.gov/TODPilot.

2. Content and Form of Application Submission

Failure to submit information as requested can delay review or disqualify the application. Proposals must include a completed SF-424 Mandatory form and the following attachments to the completed SF-424:

i. A completed Applicant and Proposal Profile supplemental form for the TOD Pilot Program (supplemental form) found on the FTA website at https://www.transit.dot.gov/TODPilot. The information on the supplemental form will be used to determine applicant and project eligibility for the program, and to evaluate the proposal against the selection criteria described in part E of this notice;

ii. A map of the proposed study area showing the transit project alignment and stations, major roadways, major landmarks, and the geographic boundaries of the proposed comprehensive planning activities;

iii. Documentation of a partnership between the transit project sponsor and an entity in the project corridor with land use planning authority to conduct the comprehensive planning work, if the applicant does not have both of these responsibilities. Documentation may consist of a memorandum of agreement or letter of intent signed by all parties that describes the parties' roles and responsibilities in the proposed comprehensive planning project; and

iv. Documentation of any funding commitments for the proposed comprehensive or site-specific planning work.

Information such as the applicant's name, Federal amount requested, local match amount, and description of the study area, are requested in varying degrees of detail on both the SF-424 form and supplemental form. Applicants must fill in all fields unless stated otherwise on the forms. Applicants should use both the “Check Package for Errors” and the “Validate Form” buttons on both forms to check all required fields and ensure that the Federal and local amounts specified are consistent. In the event of errors with the supplemental form, FTA recommends saving the form on your computer and ensuring that JavaScript is enabled in your PDF reader. The information listed below must be included on the SF-424 and supplemental forms for TOD Pilot Program funding applications.

The SF-424 and supplemental form will prompt applicants to address the following items:

1. Provide the name of the lead applicant and, if applicable, the specific co-sponsors submitting the application.

2. Provide the applicant's Dun and Bradstreet Data Universal Numbering System (DUNS) number.

3. Provide contact information including: Contact name, title, address, phone number, and email address.

4. Specify the Congressional district(s) where the planning project will take place.

5. Identify the project title and project scope to be funded, including anticipated substantial deliverables and the milestones at when they will be provided to FTA.

6. Identify and describe an eligible transit project that meets the requirements of Section C, subsection 3 of this notice.

7. Provide evidence of a partnership between the transit project sponsor and at least one agency with land use authority in the transit capital project corridor, as described earlier in this subsection.

8. Address the six factors set forth in MAP-21 Section 20005(b)(2).

9. Address each evaluation criterion separately, demonstrating how the project responds to each criterion as described in Section E.

10. Provide a line-item budget for the total planning effort, with enough detail to indicate the various key components of the comprehensive planning project.

11. Identify the Federal amount requested.

12. Document the matching funds, including amount and source of the match (may include local or private sector financial participation in the project). Describe whether the matching funds are committed or planned and include documentation of the commitments.

13. Provide explanation of the scalability of the project.

14. Address whether other Federal funds have been sought or received for the comprehensive or site-specific planning project.

15. Provide a schedule and process for the development of the comprehensive plan that includes anticipated dates for incorporating the planning work effort into the region's unified planning work program, completing major tasks and substantial deliverables, and completing the overall planning effort.

16. Describe how the comprehensive or site-specific planning work advances the metropolitan transportation plan of the metropolitan planning organization.

17. Propose performance criteria for the development and implementation of the comprehensive or site-specific planning work.

18. Identify potential State, local or other impediments to the implementation of the comprehensive plan or site-specific plan, and how the work will address them.

19. Describe how the comprehensive or site-specific planning work addresses climate change and elevates challenges facing environmental justice populations.

20. Describe how the comprehensive or site-specific planning work allows 40 percent of the overall benefits to flow to Historically Disadvantaged Communities (defined below).

21. Describe how the comprehensive or site-specific planning work prioritizes TOD plans in areas with high incidence rates of homelessness and addresses homelessness holistically through their planning processes.

22. Describe how the comprehensive or site-specific planning work addresses the historic displacement of historically disadvantaged populations and how it seeks to mitigate the displacement or improve the conditions for populations at risk of displacement, if possible. In addition, how will local residents surrounding the comprehensive or site-specific planning work will include community engagement, especially those that have been historically excluded.

23. Describe how the comprehensive or site-specific planning work includes value capture elements.

24. Describe the community input process for your comprehensive or site-specific planning work, and identify infrastructure needs associated with the eligible project.

25. Describe how the comprehensive or site-specific planning work incorporates affordable housing or other mixed-income elements.

3. Unique Entity Identifier and System for Award Management (SAM)

Each applicant is required to: (1) Be registered in SAM before submitting an application; (2) provide a valid unique entity identifier in its application; and (3) continue to maintain an active SAM registration with current information at all times during which the applicant has an active Federal award or an application or plan under consideration by FTA. FTA may not make an award until the applicant has complied with all applicable unique entity identifier and SAM requirements. If an applicant has not fully complied with the requirements by the time FTA is ready to make an award, FTA may determine that the applicant is not qualified to receive an award and use that determination as a basis for making a Federal award to another applicant. These requirements do not apply if the applicant is excepted from registration per 2 CFR 25.110. SAM registration takes approximately 3-5 business days, but FTA recommends allowing ample time, up to several weeks, for completion of all steps. For additional information on obtaining a unique entity identifier, please visit www.sam.gov.

4. Submission Dates and Times

Project proposals must be submitted electronically through http://www.GRANTS.GOV by 11:59 p.m. Eastern Time July 25, 2022. GRANTS.GOV attaches a time stamp to each application at the time of submission. Proposals submitted after the deadline will only be considered under extraordinary circumstances not under the applicant's control. Applications are time and date stamped by GRANTS.GOV upon successful submission. Mail, email, and fax submissions will not be accepted.

Within 48 hours after submitting an electronic application, the applicant should receive two email messages from GRANTS.GOV: (1) Confirmation of successful transmission to GRANTS.GOV; and (2) confirmation of successful validation by GRANTS.GOV. FTA will then validate the application and will attempt to notify any applicants whose applications could not be validated. If the applicant does not receive confirmation of successful validation or a notice of failed validation or incomplete materials, the applicant must address the reason for the failed validation, as described in the email notice, and resubmit before the submission deadline. If making a resubmission for any reason, include all original attachments regardless of which attachments were updated and check the box on the supplemental form indicating this is a resubmission. An application that is submitted at the deadline and cannot be validated will be marked as incomplete, and such applicants will not receive additional time to re-submit.

FTA urges applicants to submit their applications at least 96 hours prior to the due date to allow time to receive the validation messages and to correct any problems that may have caused a rejection notification. GRANTS.GOV scheduled maintenance and outage times are announced on the GRANTS.GOV website at http://www.GRANTS.GOV. Deadlines will not be extended due to scheduled maintenance or outages.

Applicants are encouraged to begin the registration process on the GRANTS.GOV site well in advance of the submission deadline. Registration is a multi-step process, which may take several weeks to complete before an application can be submitted. Registered applicants may still be required to take steps to keep their registration up to date before submissions can be made successfully: (1) Registration in SAM is renewed annually and (2) persons making submissions on behalf of the Authorized Organization Representative (AOR) must be authorized in GRANTS.GOV by the AOR to make submissions.

5. Funding Restrictions

See Section C of this NOFO for detailed eligibility requirements. FTA emphasizes that any comprehensive or site-specific planning projects funded through the TOD Pilot Program must be associated with an eligible transit project, specifically a new fixed guideway project or a core capacity improvement project as defined in Federal transit statute, 49 U.S.C. 5309(a). Projects are not required to be funded through the Capital Investment Grant Program. Funds must be used only for the specific purposes requested in the application. Funds under this NOFO cannot be used to reimburse projects for otherwise eligible expenses incurred prior to FTA's announcement of project selections and issuance of pre-award authority. Refer to Section C.3., Eligible Projects, for information on activities that are allowable in this grant program. Allowable direct and indirect expenses must be consistent with the Government-wide Uniform Administrative Requirements and Cost Principles (2 CFR part 200) and FTA Circular 5010.1E.

6. Other Submission Requirements

Applicants are encouraged to identify scaled funding options in case insufficient funding is available to fund a project at the full requested amount. If an applicant indicates that a project is scalable, the applicant must provide an appropriate minimum funding amount that will fund an eligible project that achieves the objectives of the program and meets all relevant program requirements. The applicant must provide a clear explanation of how the project budget would be affected by a reduced award. FTA may award a lesser amount regardless of whether a scalable option is provided.

All applications must be submitted via the GRANTS.GOV website. FTA does not accept applications on paper, by fax machine, email, or other means. For information on application submission requirements, please see Section D.1., Address to Request Application and Section D.4., Submission Dates and Times.

FTA encourages applicants to demonstrate whether they have considered climate change and environmental justice in terms of the transportation planning process or anticipated design components with outcomes that address climate change (e.g., resilience or adaptation measures). The application should describe what specific climate change or environmental justice activities have been incorporated, including whether a project supports a Climate Action Plan, whether an equitable development plan has been prepared, and whether tools such as the Environmental Protection Agency's (EPA) EJSCREEN at: https://www.epa.gov/ejscreen or DOT's Historically Disadvantaged Community tool at: https://usdot.maps.arcgis.com/apps/dashboards/d6f90dfcc8b44525b04c7ce748a3674a have been applied in project planning. Applicants could also address how a project is related to housing or land use reforms to increase density to reduce climate impacts. The application should also describe specific and direct ways the project will mitigate or reduce climate change impacts including any components that reduce emissions, promote energy efficiency, incorporate electrification or low emission or zero emission vehicle infrastructure, increase resiliency, recycle or redevelop existing infrastructure or if located in a floodplain be constructed or upgraded consistent with the Federal Flood Risk Management Standard, to the extent consistent with current law.

Applicants should identify any Environmental Justice (EJ) populations located within the proposed service area and describe anticipated benefits to that population(s) should the applicant receive a grant under this program. A formal EJ analysis that is typically included in transportation planning or environmental reviews is not requested.

E. Application Review Information

1. Criteria

Project proposals will be evaluated primarily on the responses provided in the supplemental form. Additional information may be provided to support the responses; however, any additional documentation must be directly referenced on the supplemental form, including the file name where the additional information can be found. Applications will be evaluated based on the quality and extent to which the following evaluation criteria are addressed.

a. Project Factors

Whether the project funded under the TOD Pilot Program addresses all six factors set forth in Section 20005(b)(2) of MAP-21, as amended by section 30009 of the Bipartisan Infrastructure Law:

i. Enhances economic development, ridership, and other goals established during the project development and engineering processes;

ii. facilitates multimodal connectivity and accessibility;

iii. increases access to transit hubs for pedestrian and bicycle traffic;

iv. enables mixed-use development;

v. identifies infrastructure needs associated with the eligible project; and

vi. includes private sector participation.

b. Demonstrated Need

FTA will evaluate each project to determine the need for funding based on the following factors:

i. How the proposed work will advance TOD implementation in the corridor and region;

ii. Justification as to why Federal funds are needed for the proposed work;

iii. Extent to which the transit project corridor could benefit from TOD planning.

iv. Extent to which TOD planning will address climate change and challenges facing environmental justice populations.

c. Strength of the Work Plan, Schedule and Process

FTA will evaluate the strength of the work plan, schedule and process included in an application based on the following factors:

i. Potential state, local or other impediments to the implementation of the comprehensive or site-specific plan, and how the workplan will address them;

ii. Extent to which the schedule contains sufficient detail, identifies all steps needed to implement the work proposed, and is achievable;

iii. The proportion of the project corridor covered by the work plan;

iv. Extent of partnerships, including how community stakeholders will engage and consider the needs of those traditionally underserved by existing transportation systems, such as low-income and minority households, who may face challenges accessing employment and other services.

v. The partnerships' technical capability to develop, adopt and implement the comprehensive plans, based on FTA's assessment of the applicant's description of the policy formation, implementation, and financial roles of the partners, and the roles and responsibilities of proposed staff;

vi. Extent to which this TOD planning effort increases access for environmental justice populations and allows them to participate in this TOD planning effort;

vii. Extent to which the comprehensive planning work will reduce greenhouse gas emissions and the effects of climate change;

viii. How the performance measures identified in the application relate to the goals of the comprehensive planning work.

d. Funding Commitments

FTA will assess the status of local matching funds for the planning work. Applications demonstrating that matching funds for the proposed comprehensive planning work are already committed will receive higher ratings from FTA on this factor. Proposed comprehensive planning projects for which matching funding sources have been identified, but are not yet committed, will be given lower ratings under this factor by FTA, as will proposed comprehensive planning projects for which in-kind contributions constitute the primary or sole source of match.

2. Review and Selection Process

A technical evaluation committee will verify each proposal's eligibility and evaluate proposals based on the published evaluation criteria. FTA may request additional information from applicants, if necessary. Taking into consideration the findings of the technical evaluation committee, the FTA Administrator will determine the final selection of projects for program funding.

After applying the above criteria, in support of the President's January 20, 2021, Executive Order on Protecting Public Health and the Environment and Restoring Science to Tackle the Climate Crisis, the FTA Administrator will consider applications that may provide other air quality benefits as part of the application review. Applicants should identify any nonattainment or maintenance areas under the Clean Air Act in the proposed service area. Nonattainment or maintenance areas should be limited to the following applicable National Ambient Air Quality Standards criteria pollutants: Carbon monoxide, ozone, and particulate matter 2.5 and 10. The EPA's Green Book (available at https://www.epa.gov/green-book) is a publicly-available resource for nonattainment and maintenance area data. This consideration will further the goals of the Executive Order, including the goal to prioritize environment justice and historically disadvantaged communities.

In further support of Executive Order 14008, FTA will give priority consideration to applications that create significant community benefits relating to the environment, including those projects that address greenhouse gas emissions and climate change impacts. FTA encourages applicants to demonstrate whether they have considered climate change and environmental justice in terms of the transportation planning process or anticipated design components with outcomes that address climate change (e.g., resilience or adaptation measures). The application should describe what specific climate change or environmental justice activities have been incorporated, including whether a project supports a Climate Action Plan, whether an equitable development plan has been prepared, and whether tools such as EPA's EJSCREEN at: https://www.epa.gov/ejscreen or DOT's Historically Disadvantaged Community tool at: https://usdot.maps.arcgis.com/apps/dashboards/d6f90dfcc8b44525b04c7ce748a3674a have been applied in project planning. Applicants should also address how a project is related to housing or land use reforms to increase density to reduce climate impacts. The application should also describe specific and direct ways the project will mitigate or reduce climate change impacts including any components that reduce emissions, promote energy efficiency, incorporate electrification or low emission or zero emission vehicle infrastructure, increase resiliency, recycle or redevelop existing infrastructure or if located in a floodplain be constructed or upgraded consistent with the Federal Flood Risk Management Standard, to the extent consistent with current law.

In addition, FTA will consider benefits to EJ communities when reviewing applications received under this program. Applicants should identify any EJ populations located within the proposed service area and describe anticipated benefits to that population(s) should the applicant receive a grant under this program. A formal EJ analysis that is typically included in transportation planning or environmental reviews is not requested. Among the factors, in determining the allocation of program funds FTA may consider geographic diversity, diversity in the size of the grantees receiving funding, or the applicant's receipt of other competitive awards. Respectively, FTA will evaluate the proposals to determine the extent that the proposed project will address affordable housing needs, provide equitable housing choices for environmental justice populations, and avoid displacement of low-income households and existing small businesses.

In support of Executive Order 14008, and consistent with OMB's Interim Guidance for the Justice40 Initiative, Historically Disadvantaged Communities include (a) certain qualifying census tracts, (b) any Tribal land, or (c) any territory or possession of the United States. DOT is providing a mapping tool to assist applicants in identifying whether a project is located in a Historically Disadvantaged Community at: https://usdot.maps.arcgis.com/apps/dashboards/d6f90dfcc8b44525b04c7ce748a3674a. Use of this map tool is optional; applicants may provide an image of the map tool outputs, or alternatively, consistent with OMB's Interim Guidance, applicants can supply quantitative, demographic data of their ridership demonstrating the percentage of their ridership that meets the criteria described in Executive Order 14008 for disadvantage. Examples of Historically Disadvantaged Communities that an applicant could address using geographic or demographic information include low income, high and/or persistent poverty, high unemployment and underemployment, racial and ethnic residential segregation, linguistic isolation, or high housing cost burden and substandard housing. Additionally, in support of the Justice40 Initiative, the applicant also should provide evidence of strategies that the applicant has used in the planning process to seek out and consider the needs of those traditionally disadvantaged and underserved by existing transportation systems. For technical assistance using the mapping tool, please contact GMO@dot.gov.

Prior to making an award, FTA is required to review and consider any information about the applicant that is in the Federal Awardee Performance and Integrity Information Systems (FAPIIS) accessible through SAM. An applicant may review and comment on information about itself that a Federal awarding agency previously entered. FTA will consider any comments by the applicant, in addition to the other information in the designated integrity and performance system, in making a judgment about the applicant's integrity, business ethics, and record of performance under Federal awards when completing the review of risk posed by applicants as described in the Office of Management and Budget's Uniform Requirements for Federal Awards (2 CFR 200.205).

F. Federal Award Administration Information

1. Federal Award Notices

(a) The FTA Administrator will announce the final project selections on the FTA website. Project recipients should contact their FTA Regional Offices for additional information regarding allocations for projects under the TOD Pilot Program.

i. Pre-Award Authority

FTA will issue specific guidance to recipients regarding pre-award authority at the time of selection. FTA does not provide pre-award authority for competitive funds until projects are selected and even then, there are Federal requirements that must be met before costs are incurred. Funds under this NOFO cannot be used to reimburse applicants for otherwise eligible expenses incurred prior to FTA award of a Grant Agreement until FTA has issued pre-award authority for selected projects, or unless FTA has issued a “Letter of No Prejudice” for the project before the expenses are incurred. For more information about FTA's policy on pre-award authority, please see the most recent Apportionment Notice at: https://www.transit.dot.gov.

ii. Grant Requirements

If selected, awardees will apply for a grant through FTA's Transit Award Management System (TrAMS). Recipients of TOD Pilot Program funds are subject to the grant requirements of the Section 5303 Metropolitan Planning program, including those of FTA Circular 8100.1C and Circular 5010.1E. All competitive grants, regardless of award amount, will be subject to the Congressional Notification and release process. Technical assistance regarding these requirements is available from each FTA regional office.

2. Administrative and National Policy Requirements

i. Planning

FTA encourages applicants to notify the appropriate metropolitan planning organizations in areas likely to be served by the funds made available under this program. Selected projects must be incorporated into the unified planning work programs of metropolitan areas before they are eligible for FTA funding or pre-award authority.

ii. Standard Assurances

The applicant assures that it will comply with all applicable Federal statutes, regulations, executive orders, directives, FTA circulars, and other Federal administrative requirements in carrying out any project supported by the FTA grant. The applicant acknowledges that it is under a continuing obligation to comply with the terms and conditions of the grant agreement issued for its project with FTA. The applicant understands that Federal laws, regulations, policies, and administrative practices might be modified from time to time and may affect the implementation of the project. The applicant agrees that the most recent Federal requirements will apply to the project, unless FTA issues a written determination otherwise. The applicant must submit the Certifications and Assurances before receiving a grant if it does not have current certifications on file.

iii. Disadvantaged Business Enterprise

FTA requires that its recipients receiving planning, capital, and/or operating assistance that will award prime contracts exceeding $250,000 in FTA funds in a Federal fiscal year comply with Department of Transportation Disadvantaged Business Enterprise (DBE) program regulations (49 CFR part 26). Applicants should expect to include any funds awarded, excluding those to be used for vehicle procurements, in setting their overall DBE goal.

3. Reporting

Post-award reporting requirements include submission of Federal Financial Reports and Milestone Progress Reports in FTA's electronic grants management system on a quarterly basis. Applicants should include any goals, targets, and indicators referenced in their application to the project in the Executive Summary of the TrAMS application. Awardees must also submit copies of the substantial deliverables identified in the work plan to the FTA regional office at the corresponding milestones.

As part of completing the annual certifications and assurances required of FTA grant recipients, a successful applicant must report on the suspension or debarment status of itself and its principals. If the award recipient's active grants, cooperative agreements, and procurement contracts from all Federal awarding agencies exceeds $10,000,000 for any period of time during the period of performance of an award made pursuant to this Notice, the recipient must comply with the Recipient Integrity and Performance Matters reporting requirements described in Appendix XII to 2 CFR part 200.

G. Federal Awarding Agency Contacts

For program-specific questions, please contact April McLean-McCoy, Office of Planning and Environment, (202) 366-7429, email: April.McLeanMcCoy@dot.gov. A TDD is available at 1-800-877-8339 (TDD/FIRS). Any addenda that FTA releases on the application process will be posted at https://www.transit.dot.gov/TODPilot. To ensure applicants receive accurate information about eligibility or the program, the applicant is encouraged to contact FTA directly, rather than through intermediaries or third parties. FTA staff may also conduct briefings on the FY 2022 competitive grants selection and award process upon request. Contact information for FTA's regional offices can be found on FTA's website at http://www.transit.dot.gov.

For issues with GRANTS.GOV, please contact GRANTS.GOV by phone at 1-800-518-4726 or by email at support@grants.gov. Contact information for FTA's regional offices can be found on FTA's website at http://www.fta.dot.gov.

H. Other Program Information

This program is not subject to Executive Order 12372, “Intergovernmental Review of Federal Programs.”

Nuria I. Fernandez,
Administrator.

[FR Doc. 2022-11336 Filed 5-25-22; 8:45 am]

BILLING CODE 4910-57-P